DEPARTMENT OF THE INTERIOR

Bureau of Land Management

[LLORL00000.L18200000.XZ0000.14XL1109AF; HAG14-0019]

Notice of Public Meeting for the Southeast Oregon Resource Advisory Council

AGENCY: Bureau of Land Management, Interior.

ACTION: Notice of public meeting.

SUMMARY: In accordance with the Federal Land Policy and Management Act and the Federal Advisory Committee Act of 1972, and the U.S. Department of the Interior, Bureau of Land Management (BLM), the Southeast Oregon Resource Advisory Council (RAC) will meet as indicated below:

DATES: The RAC will hold a public meeting on August 4 and 5, 2014, at the Clarion Inn, 1249 Tapadera Avenue, Ontario, Oregon, from 8:30-4:30 each day. A public comment period will be available each day of the session. Unless otherwise approved by the RAC Chair, the public comment period will last no longer than 30 minutes, and each speaker may address the RAC for a maximum of five minutes. Meeting times and the duration scheduled for public comment periods may be extended or altered when the authorized representative considers it necessary to accommodate necessary business and all who seek to be heard regarding matters before the RAC.

FOR FURTHER INFORMATION CONTACT: Kevin Abel, Public Affairs Specialist, BLM Lakeview District Office, 1301 S G Street, Lakeview, Oregon 97630, (541) 947-6237, or email kabel@blm.gov. Persons who use a telecommunications device for the deaf (TDD) may call the Federal Information Relay Service (FIRS) at 1 (800) 877-8339 to contact the above individual during normal business hours. The FIRS is available 24 hours a day, 7 days a week, to leave a message or question with the above individual. You will receive a reply during normal business hours.

SUPPLEMENTARY INFORMATION: The Southeast Oregon RAC consists of 15 members chartered and appointed by the Secretary of the Interior. Their diverse perspectives are represented in commodity, conservation, and general interests. They provide advice to BLM and Forest Service resource managers regarding management plans and proposed resource actions on public land in southeast Oregon. Agenda items for the August 4-5, 2014 meeting include: Lands with wilderness characteristics; the Wild Horse and Burro Program; presentation from Burns Paiute regarding land transfer; Vale fuels discussion; discussion of Leslie Gulch fence; and planning future RAC meetings. Any other matters that may reasonably come before the Southeast Oregon RAC may also be addressed. This meeting is open to the public in its entirety. Information to be distributed to the Southeast Oregon RAC is requested prior to the start of each meeting.

Before you include your address, phone number, email address, or any other personal information during your comments, please be aware that your entire comment (including your personal information) may be available to the public at any time. When making your comments, you may request that your personal information be held from public review, however we cannot guarantee it will not be disclosed.

ELynn Burkett,
Lakeview District Manager.

[FR Doc. 2014-16689 Filed 7-15-14; 8:45 am]

BILLING CODE 4310-33-P